DEPARTMENT OF HOUSING AND URBAN DEVELOPMENT

[Docket No. FR-5045-N-43]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Energy: Mr. John Watson, Department of Energy, Office of Engineering & Construction Management, ME-90, 1000 Independence Ave., SW., Washington, DC 20585: (202) 586-0072; GSA: Mr. John Kelly, Acting Deputy Assistant Commissioner, General Services Administration, Office of Property Disposal, 18th & F Streets, NW., Washington, DC 20405; (202) 501-0084; Interior: Ms. Linda Tribby, Acquisition & Property Management, Department of the Interior, 1849 C Street, NW., MS5512, Washington, DC 20240; (202) 513-0747; Navy: Mr. Warren Meekins, Associate Director, Department of the Navy, Real Estate Services, Naval Facilities Engineering Command, Washington Navy Yard, 1322 Patterson Ave., SE., Suite 1000, Washington, DC 20374-5065; (202) 685-9305; (these are not toll-free numbers).

Dated: October 19, 2006
Mark R. Johnston,
Acting Deputy Assistant, Secretary for Special Needs.

Title V, Federal Surplus Property Program Federal Register Report for 10/27/06

Suitable/Available Properties

Buildings (by State)

Iowa

Federal Bldg./P.O./Courthouse

8 South 6th Street

Council Bluffs Co: Pottawattamie IA 51501-

Landholding Agency: GSA

Property Number: 54200640001

Status: Excess

Comment: 67,298 sq. ft., to be vacant 12/31/08, needs rehab—estimated cost $2 million

GSA Number: 7-G-IA-0468-1

Oklahoma

Bldg.

Foss Reservoir Master Conservancy

Clinton Co: Custer OK 73601-

Location: 635 North 6th Street

Landholding Agency: Interior

Property Number: 61200640002

Status: Excess

Comment: 1200 sq. ft., most recent use—storage/office, not ADA accessible

Texas

Bldgs. 5, 6, 7

Federal Center

501 West Felix Street

Ft. Worth Co: Tarrant TX 76115-

Landholding Agency: GSA

Property Number: 54200640002

Status: Excess

Comment: 3 warehouses with concrete foundation, off-site use only

GSA Number: 7-G-TX-0767-3

Unsuitable Properties

Buildings (by State)

South Carolina

Bldgs. 108-1P, 108-2P

Savannah River Site

Aiken Co: SC 29802-

Landholding Agency: Energy

Property Number: 41200640001

Status: Excess

Reason: Secured Area

Virginia

Bldgs. 500, 501

Naval Weapon Station

Yorktown Co: VA 23691-

Landholding Agency: Navy

Property Number: 77200640012

Status: Excess

Reason: Extensive deterioration

Bldg. 628

Naval Weapon Station

Yorktown Co: VA 23691-

Landholding Agency: Navy

Property Number: 77200640013

Status: Excess

Reason: Extensive deterioration

Bldg. CA-486

Naval Support Activity

Norfolk Co: VA 23551-

Landholding Agency: Navy

Property Number: 77200640026

Status: Excess

Reason: Extensive deterioration

Washington

Bldgs. 0304, 0305

22416 Road F NE

Soap Lake Co: Grant WA 98851-

Landholding Agency: Interior

Property Number: 61200640003

Status: Excess

Reason: Extensive deterioration

Bldgs. 0801, 0804

Frontage Road

West Quincy Co: Grant WA 98848-

Landholding Agency: Interior

Property Number: 61200640004

Status: Excess

Reason: Extensive deterioration

Bldgs. 1202, 1203

S. Maple

Warden Co: Grant WA 98857-

Landholding Agency: Interior

Property Number: 61200640005

Status: Excess

Reason: Extensive deterioration

Bldgs. 1702, 1707

Highway Heights

Mesa Co: Franklin WA 99343-

Landholding Agency: Interior

Property Number: 61200640006

Status: Excess

Reason: Extensive deterioration

Bldg. 1806

Klamath Road

Mesa Co: Franklin WA 99343-

Landholding Agency: Interior

Property Number: 61200640007

Status: Excess

Reason: Extensive deterioration

Bldgs. 407, 447

Naval Base

Bremerton Co: Kitsap WA 98310-

Landholding Agency: Navy

Property Number: 77200640014

Status: Excess

Reason: Secured Area

Bldg. 867

Naval Base

Bremerton Co: Kitsap WA 98310-

Landholding Agency: Navy

Property Number: 77200640015

Status: Excess

Reason: Secured Area

Bldgs. 937, 975

Naval Base

Bremerton Co: Kitsap WA 98310-

Landholding Agency: Navy

Property Number: 77200640016

Status: Excess

Reason: Secured Area

Bldg. 1449

Naval Base

Silverdale Co: Kitsap WA 98315-

Landholding Agency: Navy

Property Number: 77200640017

Status: Unutilized

Reason: Secured Area

Bldg. 1670

Naval Base

Silverdale Co: Kitsap WA 98315-

Landholding Agency: Navy

Property Number: 77200640018

Status: Unutilized

Reason: Secured Area

Bldgs. 2007, 2801

Naval Base

Silverdale Co: Kitsap WA 98315-

Landholding Agency: Navy

Property Number: 77200640019

Status: Unutilized

Reason: Secured Area

Bldgs. 6021, 6095

Naval Base

Silverdale Co: Kitsap WA 98315-

Landholding Agency: Navy

Property Number: 77200640020

Status: Unutilized

Reason: Secured Area

Bldgs. 6606, 6661

Naval Base

Silverdale Co: Kitsap WA 98315-

Landholding Agency: Navy

Property Number: 77200640021

Status: Unutilized

Reason: Secured Area

Bldgs. 726, 727, 734

Naval Undersea Warfare

Keyport Co: Kitsap WA 98345-

Landholding Agency: Navy

Property Number: 77200640022

Status: Unutilized

Reasons: Within 2000 ft. of flammable or explosive material; Secured Area

Bldgs. 901, 911

Naval Undersea Warfare

Keyport Co: Kitsap WA 98345-

Landholding Agency: Navy

Property Number: 77200640023

Status: Unutilized

Reasons: Within 2000 ft. of flammable or explosive material; Secured Area

Bldgs. 925, 938

Naval Undersea Warfare

Keyport Co: Kitsap WA 98345-

Landholding Agency: Navy

Property Number: 77200640024

Status: Unutilized

Reasons: Within 2000 ft. of flammable or explosive material; Secured Area

Bldg. 1020

Naval Undersea Warfare

Keyport Co: Kitsap WA 98345-

Landholding Agency: Navy

Property Number: 77200640025

Status: Unutilized

Reasons: Within 2000 ft. of flammable or explosive material; Secured Area

Land (by State)

Colorado

0.21 acre

Section 20

Bayfield Co: La Plata CO 81122-

Landholding Agency: Interior

Property Number: 61200640001

Status: Excess

Reason: Not accessible

[FR Doc. E6-17817 Filed 10-26-06; 8:45 am]

BILLING CODE 4210-67-P